DEPARTMENT OF DEFENSE

Office of the Secretary

Submission for OMB review; comment request

ACTION: Notice.

The Department of Defense has submitted to OMB for clearance, the following proposal for collection of information under the provisions of the Paperwork Reduction Act (44 U.S.C. Chapter 35).

DATES: Consideration will be given to all comments received by July 11, 2005.

Title and OMB Number: Industry Partnership Survey; OMB Number 0702-TBD.

Type of Request: New.

Number of Respondents: 1,714.

Responses per Respondent: 1.

Annual Responses: 1,371.

Average Burden per Response: 15 minutes.

Annual Burden Hours: 343.

Needs and Uses: SDDC will use the survey information to improve the efficiency, quality, and timeliness of its processes, as well as to strengthen its partnership with industry. Although the survey instruments are brief, with only basic information requested to measure satisfaction and to obtain feedback on areas that may require improvement, SDDC expects the data, comments, and suggestions offered by the respondents to help improve the performance of its systems and contain costs. Because the survey asks about the roles of SDDC employees, the responses will also help improve the SDDC exercise of project oversight responsibilities.

Affected Public: Business or other for-profit.

Frequency: On occasion (14 month cycle).

Respondent's Obligation: Voluntary.

OMB Desk Officer: Mr. Lewis Oleinick.

Written comments and recommendations on the proposed information collection should be sent to Mr. Oleinick at the Office of Management and Budget, Desk Officer for DoD, Room 10236, New Executive Office Building, Washington, DC 20503.

DOD Clearance Officer: Ms. Patricia Toppings.

Written requests for copies of the information collection proposal should be sent to Ms. Toppings, WHS/ESD/Information Management Division, 1225 South Clark Street, Suite 504, Arlington, VA 22202-4326.

Dated: May 20, 2005.
Patricia L. Toppings,
Alternative OSD Federal Register Liaison Officer, Department of Defense.

[FR Doc. 05-11421 Filed 6-8-05; 8:45 am]

BILLING CODE 5001-06-M